ENVIRONMENTAL PROTECTION AGENCY

40 CFR Part 63

[AD-FRL-6892-4]

RIN 2060-AH47

National Emission Standards for Hazardous Air Pollutant Emissions: Group IV Polymers and Resins

AGENCY: Environmental Protection Agency (EPA).

ACTION: Withdrawal of direct final rule.

SUMMARY: Because EPA received adverse comment, we are withdrawing the direct final rule published on August 29, 2000 (65 FR 52319) to indefinitely stay the compliance date for the process contact cooling tower (PCCT) provisions for existing affected sources producing poly(ethylene terephthalate) (PET) using the continuous terephthalic acid (TPA) high viscosity multiple end finisher process. We stated in that direct final rule that if we received adverse comment by September 28, 2000, we would publish a timely withdrawal in the Federal Register. We subsequently received adverse comment on that direct final rule. We will address that comment in a subsequent final action based on the parallel proposal also published on August 29, 2000 (65 FR 52392). As stated in the parallel proposal, we will not institute a second comment period on this action.

DATES: As of October 26, 2000, EPA withdraws the direct final rule published at 65 FR 52319 on August 29, 2000.

ADDRESSES: Docket number A-92-45, containing information relevant to the direct final rule being withdrawn, is available for public inspection between 8:00 a.m. and 5:30 p.m., Monday through Friday (except for Federal holidays) at the following address: U.S. Environmental Protection Agency, Air and Radiation Docket and Information Center (6102), 401 M Street, SW, Washington, DC 20460, or by calling (202) 260-7548. A reasonable fee may be charged for copying docket materials.

FOR FURTHER INFORMATION CONTACT: Mr. Robert E. Rosensteel, Organic Chemicals Group, Emission Standards Division (MD-13), Office of Air Quality Planning and Standards, U.S. EPA, Research Triangle Park, NC 27711, telephone number (919) 541-5608, electronic mail address rosensteel.bob@epa.gov.

SUPPLEMENTARY INFORMATION: On September 12, 1996, we promulgated National Emission Standards for Hazardous Air Pollutant (NESHAP) for Group IV Polymers and Resins as subpart JJJ in 40 CFR part 63. The NESHAP established a new subcategory for PET manufacture specified as the continuous TPA high viscosity multiple end finisher subcategory. The NESHAP also established standards for PCCT, contained in 40 CFR 63.1329, for existing affected sources in the new subcategory.

A petition was submitted to us requesting reconsideration of the technical basis for establishment of the continuous TPA high viscosity multiple end finisher subcategory (Docket: A-92-45). The petition presented new information related to the production processes for the manufacture of PET that the petitioner claims calls into question the need and justification for a separate subcategory for the continuous TPA high viscosity multiple end finisher process. The information presented in the petition led us to accept the petitioner's request to reconsider the need for the continuous TPA high viscosity multiple end finisher subcategory.

On August 29, 2000, the EPA published a direct final rule (65 FR 52319) and a parallel proposal (65 FR 52392) to indefinitely stay the compliance date for the PCCT provisions for existing affected sources producing PET using the continuous TPA high viscosity multiple end finisher process. The stay was issued because EPA was in the process of responding to a request to reconsider relevant portions of the NESHAP for Group IV Polymers and Resins that might result in changes to the emission limitation which applies to PCCT in this subcategory. It was unlikely that the reconsideration process would be complete before actions were necessary to comply with the current PCCT standard. Therefore, we issued an indefinite stay of the compliance date.

The EPA stated in the direct final rule that if adverse comments were received by September 28, 2000, the EPA would publish a notice to withdraw the direct final rule before its effective date of October 30, 2000. The EPA received an adverse comment and, therefore, is withdrawing the direct final rule.

The EPA will address this comment in the subsequent final action on the parallel proposal.

Dated: October 19, 2000.
Robert D. Brenner,
Acting Assistant Administrator, Office of Air and Radiation.

[FR Doc. 00-27583 Filed 10-25-00; 8:45 am]

BILLING CODE 6560-50-P